DEPARTMENT OF TRANSPORTATION

Federal Aviation Administration

14 CFR Part 39

[Docket No. FAA-2011-1068; Directorate Identifier 2010-NM-189-AD]

RIN 2120-AA64

Airworthiness Directives; The Boeing Company Model 737-100, -200, -200C, -300, -400, and -500 Series Airplanes

AGENCY: Federal Aviation Administration (FAA), DOT.

ACTION: Notice of proposed rulemaking (NPRM).

SUMMARY: We propose to adopt a new airworthiness directive (AD) for the products listed above. This proposed AD would require installing an automatic shutoff system for the center and auxiliary tank fuel boost pumps, as applicable, and installing a placard in the airplane flight deck if necessary; replacing the P5-2 fuel system module assembly; and installing the un-commanded on (UCO) protection system for the center and auxiliary tank fuel boost pumps, as applicable. This proposed AD would also require revisions to the Limitations and Normal Procedures sections of the airplane flight manual to advise the flightcrew of certain operating restrictions for airplanes equipped with an automatic shutoff system. This proposed AD would also require revising the maintenance program by incorporating new airworthiness limitations for fuel tank systems to satisfy Special Federal Aviation Regulation No. 88 requirements. This proposed AD was prompted by fuel system reviews conducted by the manufacturer. We are proposing this AD to prevent operation of the center and auxiliary tank fuel boost pumps with continuous low pressure, which could lead to friction sparks or overheating in the fuel pump inlet that could create a potential ignition source inside the center and auxiliary fuel tanks. These conditions, in combination with flammable fuel vapors, could result in a fuel tank explosion and consequent loss of the airplane.

DATES: We must receive comments on this proposed AD by November 28, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Tak Kobayashi, Aerospace Engineer, Propulsion Branch, ANM-140S, FAA, Seattle Aircraft Certification Office, 1601 Lind Avenue SW., Renton, Washington 98057-3356; telephone: 425-917-6499; fax: 425-917-6590; e-mail: Takahisa.Kobayashi@faa.gov.

SUPPLEMENTARY INFORMATION:

Comments Invited

We invite you to send any written relevant data, views, or arguments about this proposal. Send your comments to an address listed under the ADDRESSES section. Include “Docket No. FAA-2011-1068; Directorate Identifier 2010-NM-189-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

We have determined that the actions identified in this AD are necessary to reduce the potential of ignition sources inside fuel tanks, which, in combination with flammable fuel vapors, could result in fuel tank explosions and consequent loss of the airplane.

The manufacturer has found that certain failures will result in the center and auxiliary tank fuel boost pumps continuing to run after the tank has been depleted. Depending on the failure, pump low pressure may not be annunciated, or power may not be removed from the pump when the pump has been commanded “OFF.” Operation of the center and auxiliary tank fuel boost pumps with continuous low pressure could lead to friction sparks or overheating in the fuel pump inlet. This condition, if not corrected, could result in a fuel tank explosion and consequent loss of the airplane.

Relevant Service Information

We have reviewed Boeing Alert Service Bulletin 737-28A1216, Original Issue, dated July 29, 2010, which describes procedures for installing the automatic shutoff system for the center and auxiliary fuel tank boost pumps, as applicable, on Model 737-300, -400, and -500 series airplanes; and refers to Airworthiness Limitation (AWL) No. 28-AWL-20 and No. 28-AWL-21 that are related to the modifications specified in that service bulletin.

We have also reviewed Boeing Alert Service Bulletin 737-28A1228, Original Issue, dated August 2, 2010, which describes procedures for installing the automatic shutoff system for the center and auxiliary fuel tank boost pumps, as applicable, on Model 737-100, -200, and -200C series airplanes; and refers to AWL No. 28-AWL-21 and AWL No. 28-AWL-22 that are related to the modifications specified in that service bulletin.

Boeing Alert Service Bulletins 737-28A1216, Original Issue, dated July 29, 2010; and 737-28A1228, Original Issue, dated August 2, 2010; specify prior or concurrent accomplishment of Boeing Service Bulletin 737-28A1210, Original Issue, dated August 2, 2010, which describes procedures for replacing the P5-2 fuel system module assembly with a new or modified P5-2 fuel system module assembly having a new part number, for Model 737-100, -200, -200C, -300, -400, and -500 series airplanes.

Boeing Service Bulletin 737-28A1210, Original Issue, dated August 2, 2010, refers to BAE Systems Service Bulletin 69-37335-28-04, Revision 2, dated February 10, 2010, as an additional source of guidance for modifying and updating the existing P5-2 fuel system module assembly part numbers to new part numbers.

We have also reviewed Boeing Alert Service Bulletin 737-28A1227, Revision 1, dated July 18, 2011. The service information describes procedures for installing the “un-commanded ON” protection system for the center and auxiliary fuel boost pumps, as applicable, on airplanes. The installation includes installing new relays and toggle switches in the J2802 box assembly located in the electronic equipment bay (E/E bay), and changing and adding new wire bundles that route from the J2802 box assembly to the P5 forward overhead panel and the P6 disconnect panels. This service bulletin also refers to AWL No. 28-AWL-24 and No. 28-AWL-25 that are related to the modifications specified in that service bulletin for Model 737-100, -200, and -200C series airplanes; and AWL No. 28-AWL-23 and No. 28-AWL-24 that are related to the modifications specified in that service bulletin for Model 737-300, -400, and -500 airplanes.

We have also reviewed Section C, “Fuel Systems Airworthiness Limitations,” of Section 9 of the Boeing 737-100/200/200C/300/400/500 Airworthiness Limitations (AWLs) and Certification Maintenance Requirements (CMRs), Document D6-38278-CMR, Revision July 2011, which contains the following airworthiness limitations:

• For Model 737-300, -400, and -500 series airplanes that have incorporated Boeing Alert Service Bulletin 737-28A1216, AWLs No. 28-AWL-20 and No. 28-AWL-21 are airworthiness limitation instructions (ALIs) for an operational check of the installed automatic shutoff system.

• For Model 737-100, -200, and -200C series airplanes that have incorporated Boeing Alert Service Bulletin 737-28A1228, AWLs No. 28-AWL-21 and No. 28-AWL-22 are ALIs for an operational check of the installed automatic shutoff system.

• For Model 737-300, -400, and -500 series airplanes that have incorporated Boeing Alert Service Bulletin 737-28A1227, AWLs No. 28-AWL-23 and No. 28-AWL-24 are ALIs for an operational check of the installed power-failed-on (un-commanded ON) protection system.

• For Model 737-100, -200, and -200C series airplanes that have incorporated Boeing Alert Service Bulletin 737-28A1227, AWL No. 28-AWL-24 and No. 28-AWL-25 are ALIs for an operational check of the installed power-failed-on (un-commanded ON) protection system.

Other Relevant Rulemaking

On April 18, 2001, we issued AD 2001-08-24, Amendment 39-12201 (66 FR 20733, April 25, 2001), for all Model 737 series airplanes. That AD requires revising the airplane flight manual to prohibit extended dry operation of the center tank fuel pumps (with no fuel passing through the pumps). We issued that AD to prevent ignition of fuel vapors due to the generation of sparks and a potential ignition source inside the center tank caused by metal-to-metal contact during dry fuel pump operation, which could result in a fire or explosion of the fuel tank. Accomplishment of the actions required by paragraphs (g), (h), (i), and (l) of this AD, and paragraph (j) or (k) of this AD, as applicable, is acceptable for compliance with the requirements of paragraph (a) of AD 2001-08-24.

On December 16, 2009, we issued AD 2008-10-09 R1, Amendment 39-16148 (74 FR 69264, December 31, 2009), for all Model 737-100, -200, -200C, -300, -400, and -500 series airplanes. That AD requires revising the maintenance program to incorporate new airworthiness limitations (AWLs) for fuel tank systems to satisfy Special Federal Aviation Regulation No. 88 requirements. That AD also requires an initial inspection to phase in certain repetitive AWL inspections, and repair if necessary. We issued that AD to prevent the potential for ignition sources inside fuel tanks caused by latent failures, alterations, repairs, or maintenance actions, which, in combination with flammable fuel vapors, could result in a fuel tank explosion and consequent loss of the airplane. Incorporation of AWLs No. 28-AWL-21 and No. 28-AWL-22 for Model 737-100, -200, and 200C series airplanes; and AWLs No. 28-AWL-20 and No. 28-AWL-21 for Model 737-300, -400, and -500 series airplanes; in accordance with paragraphs (g)(1) and (g)(2) of AD 2008-10-09 R1, terminates the requirements of the corresponding AWLs incorporation required by paragraph (l) of this AD.

FAA's Determination

We are proposing this AD because we evaluated all the relevant information and determined the unsafe condition described previously is likely to exist or develop in other products of these same type designs.

Proposed AD Requirements

This proposed AD would require accomplishing the actions specified in the service information described previously, except as discussed under “Differences Between the Proposed AD and the Service Information.”

This proposed AD would also require installing a placard adjacent to the pilot's primary flight display on all airplanes not equipped with an automatic shutoff system for the center tank fuel boost pumps and auxiliary fuel boost pumps, to specify that fuel usage restrictions given in AD 2001-08-24 (66 FR 20733, April 25, 2001) are required. Installing an automatic shutoff system on an airplane would end the need for the placard installation for only that airplane.

This proposed AD would also require revisions to the Limitations and Normal Procedures sections of the applicable Boeing 737 Airplane Flight Manual (AFM) to advise the flightcrew of certain operating restrictions related to the automatic shutoff system for the center and auxiliary tank fuel boost pumps.

Differences Between the Proposed AD and the Service Information

Although Boeing Service Bulletin 737-28A1210, Revision 1, dated May 13, 2011; and Boeing Alert Service Bulletins 737-28A1227, Revision 1, dated July 18, 2011; and 737-28A1228, Original Issue, dated August 2, 2010; specify that certain operators may contact the manufacturer for modification instructions, this proposed AD would require those operators to do the modification using a method approved by the FAA.

We received a copy of Boeing Information Notice 737-28A1216 IN 01, dated March 25, 2011; and Boeing Information Notice 737-28A1228 IN 01, dated March 25, 2011, which describe an issue pertaining to installation of the J2802 box on airplanes with airstairs. When the J2802 box is installed in accordance with Boeing Alert Service Bulletin 737-28A1216, Original Issue, dated July 29, 2010; or 737-28A1228, Original Issue, dated August 2, 2010; the forward face of the box will interfere with the airstairs and the airstairs support structure. Boeing is currently designing a new J2802 box for airplanes with airstairs. Installation of the automatic shutoff system required by paragraph (g) of this AD only applies to the affected airplanes without airstairs. In addition, installation of the `un-commanded ON' protection system required by paragraph (m) of this AD only applies to the affected airplanes without airstairs. We may consider further rulemaking for installations of the automatic shutoff system and the `un-commanded ON' protection system on those affected airplanes with airstairs. Installation of a placard required by paragraph (i) of this AD applies to all affected airplanes regardless of airstairs. Once the automatic shutoff system is installed on any airplanes in an operator's fleet, a placard must be installed on all affected airplanes not equipped with an automatic shutoff system.

Although Boeing Alert Service Bulletins 737-28A1216, Original Issue, dated July 29, 2010; and 737-28A1228, Original Issue, dated August 2, 2010; refer to Boeing Alert Service Bulletin 737-28A1210, Original Issue, dated August 2, 2010, as a concurrent requirement, this AD refers to Boeing Service Bulletin 737-28A1210, Revision 1, dated May 13, 2011. Since the P5-2 fuel system module assembly part numbers and the associated airplane group numbers, as shown in the figures of Boeing Alert Service Bulletin 737-28A1210, Original Issue, dated August 2, 2010, may be incorrect for certain airplanes due to interchangeability of certain part numbers, this AD requires Revision 1 of that service bulletin.

Costs of Compliance

We estimate that this proposed AD will affect 701 airplanes of U.S. registry. Of those 701 airplanes, 554 airplanes are without airstairs.

We estimate the following costs to comply with this proposed AD:

Estimated Costs
Action | Labor cost | Parts cost | Cost per product | Cost on U.S. operators
Install auto shutoff protection for Model 737-100, -200, -200C airplanes (98 airplanes) | Between 92 and 152 work-hours × $85 per hour = Between $7,820 and $12,920 ¹ | Between $10,127 and $15,123 ¹ | Between $17,947 and $28,043 ¹ | Between $1,758,806 and $2,748,214 ¹.
Install auto shutoff protection for Model 737-300, -400, and -500 airplanes (456 airplanes) | Between 92 and 152 work-hours × $85 per hour = Between $7,820 and $12,920 ¹ | Between $9,869 and $14,265 ¹ | Between $17,689 and $27,185 ¹ | Between $8,066,184 and $12,396,360 ¹.
Install P5-2 module | 1 work-hour × $85 per hour = $85 | $0 | $85 | $47,090.
Install `un-commanded ON' protection | Between 38 and 63 work-hours × $85 per hour = Between $3,230 and $5,355 ¹ | Between $3,440 and $5,699 ¹ | Between $6,670 and $11,054 ¹ | Between $3,695,180 and $6,123,916 ¹.
Revise aircraft flight manual | 1 work-hour × $85 per hour = $85 | $0 | $85 | $47,090.
Revise Maintenance Program | 1 work-hour × $85 per hour = $85 | $0 | $85 | $47,090.
¹ Depending on group.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-1068; Directorate Identifier 2010-NM-189-AD.

Comments Due Date

(a) We must receive comments by November 28, 2011.

Affected ADs

(b) This AD affects AD 2001-08-24, Amendment 39-12201 (66 FR 20733, April 25, 2001). Also, AD 2008-10-09 R1, Amendment 39-16148 (74 FR 69264, December 31, 2009), affects this AD.

Applicability

(c) The Boeing Company Model 737-100, -200, -200C, -300, -400, and -500 series airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (t) of this AD. The request should include a description of changes to the required inspections that will ensure the continued operational safety of the airplane.

Subject

(d) Joint Aircraft System Component (JASC)/Air Transport Association (ATA) of America Code 28, Fuel.

Unsafe Condition

(e) This AD was prompted by fuel system reviews conducted by the manufacturer. We are issuing this AD to prevent operation of the center and auxiliary tank fuel boost pumps with continuous low pressure, which could lead to friction sparks or overheating in the fuel pump inlet that could create a potential ignition source inside the center and auxiliary fuel tanks. These conditions, in combination with flammable fuel vapors, could result in a fuel tank explosion and consequent loss of the airplane.

Compliance

(f) Comply with this AD within the compliance times specified, unless already done.

Installation of Automatic Shutoff System for the Center and Auxiliary Tank Fuel Boost Pumps

(g) Within 36 months after the effective date of this AD, do the actions required by paragraph (g)(1), (g)(2), or (g)(3) of this AD, as applicable. If a placard has been previously installed on an airplane, in accordance with the requirements of paragraph (i) of this AD, the placard may be removed from the flight deck of only that airplane after the automatic shutoff system has been installed, as specified in paragraph (g)(1), (g)(2), or (g)(3) of this AD, as applicable. Installing automatic shutoff systems on all airplanes in an operator's fleet, in accordance with this paragraph, terminates the placard installation required by paragraph (i) of this AD, for all airplanes in an operator's fleet.

(1) For Model 737-100, -200, and -200C series airplanes without airstairs, in Groups 2 through 16, as identified in Boeing Alert Service Bulletin 737-28A1228, Original Issue, dated August 2, 2010: Install the automatic shutoff system for the center and auxiliary fuel tank boost pumps, as applicable, in accordance with the Accomplishment Instructions of Boeing Alert Service Bulletin 737-28A1228, Original Issue, dated August 2, 2010.

(2) For Model 737-100, -200, and -200C series airplanes in Group 1, as identified in Boeing Alert Service Bulletin 737-28A1228, Original Issue, dated August 2, 2010: Install the automatic shutoff system for the center and auxiliary fuel tank boost pumps, as applicable, in accordance with a method approved by the Manager, Seattle Aircraft Certification Office (ACO). For a modification method to be approved by the Manager, Seattle ACO, as required by this paragraph, the Manager's approval letter must specifically refer to this AD.

(3) For Model 737-300, -400, and -500 series airplanes without airstairs, as identified in Boeing Alert Service Bulletin 737-28A1216, Original Issue, dated July 29, 2010: Install the automatic shutoff system for the center and auxiliary fuel tank boost pumps, as applicable, in accordance with the Accomplishment Instructions of Boeing Alert Service Bulletin 737-28A1216, Original Issue, dated July 29, 2010.

Concurrent Installation of the P5-2 Fuel System Module Assembly

(h) Before or concurrently with accomplishing the actions required by paragraph (g) of this AD, do the actions required by paragraph (h)(1) or (h)(2) of this AD, as applicable.

(1) For airplanes in Group 2, as identified in Boeing Service Bulletin 737-28A1210, Revision 1, dated May 13, 2011: Replace the P5-2 fuel system module assembly with a modified or new P5-2 fuel system module assembly having a new part number, in accordance with Boeing Service Bulletin 737-28A1210, Revision 1, dated May 13, 2011.

Note 2: Boeing Service Bulletin 737-28A1210, Revision 1, dated May 13, 2011, refers to BAE Systems Service Bulletin 69-37335-28-04, Revision 2, dated February 10, 2010, as an additional source of guidance for modifying and updating the existing P5-2 fuel system module assembly part numbers to new part numbers.

(2) For airplanes in Group 1 as identified in Boeing Service Bulletin 737-28A1210, Revision 1, dated May 13, 2011: Replace the P5-2 fuel system module assembly, in accordance with a method approved by the Manager, Seattle ACO. For a modification method to be approved by the Manager, Seattle ACO, as required by this paragraph, the Manager's approval letter must specifically refer to this AD.

Concurrent Installation of a Placard for Mixed Fleet Operation

(i) Concurrently with installing the automatic shutoff system on any airplane in an operator's fleet, as required by paragraph (g) of this AD, install a placard adjacent to the pilot's primary flight display on all airplanes in the operator's fleet not equipped with an automatic shutoff system for the center and auxiliary tank fuel boost pumps, as applicable. The placard reads as follows (alternative placard wording may be used if approved by an appropriate FAA Principal Operations Inspector):

“AD 2001-08-24 fuel usage restrictions required.”

Installing an automatic shutoff system on an airplane, in accordance with the requirements of paragraph (g) of this AD, terminates the placard installation required by this paragraph for only that airplane. Installing automatic shutoff systems on all affected airplanes in an operator's fleet, in accordance with the requirements of paragraph (g) of this AD, terminates the placard installation required by this paragraph for all affected airplanes in an operator's fleet.

Airplane Flight Manual (AFM) Revisions for Airplanes Without Boeing Auxiliary Fuel Tanks

(j) For airplanes without Boeing auxiliary fuel tanks: Concurrently with accomplishing the actions required by paragraph (g) of this AD, do the actions specified in paragraphs (j)(1) and (j)(2) of this AD.

(1) Revise Section 1 of the Limitations section of the applicable Boeing 737 AFM to include the following statement. This may be done by inserting a copy of this AD into the AFM.

“CENTER TANK FUEL PUMPS

Intentional dry running of a center tank fuel pump (low pressure light illuminated) is prohibited.”

Note 3: When a statement identical to that in paragraph (j)(1) of this AD has been included in the general revisions of the applicable Boeing 737 AFM, the general revisions may be inserted into the AFM, and the copy of this AD may be removed from the AFM.

(2) Revise Section 3 of the Normal Procedures section of the applicable Boeing 737 AFM to include the following statements. This may be done by inserting a copy of this AD into the AFM. Alternative statements that meet the intent of the following requirements may be used if approved by an appropriate FAA Principal Operations Inspector.

“NORMAL FUEL USAGE

Center tank fuel pumps must not be “ON” unless personnel are available in the flight deck to monitor low pressure lights.

For ground operation, center tank fuel pump switches must not be positioned “ON” unless the center tank fuel quantity exceeds 1,000 pounds (453 kilograms), except when defueling or transferring fuel. Upon positioning the center tank fuel pump switches “ON,” verify momentary illumination of each center tank fuel pump low pressure light.

For ground and flight operations, the corresponding center tank fuel pump switch must be positioned “OFF” when a center tank fuel pump low pressure light illuminates [1]. Both center tank fuel pump switches must be positioned “OFF” when the first center tank fuel pump low pressure light illuminates if the center tank is empty. [1] When established in a level flight attitude, both center tank pump switches should be positioned “ON” again if the center tank contains usable fuel.

DEFUELING AND FUEL TRANSFER

When transferring fuel or defueling center or main tanks, the fuel pump low pressure lights must be monitored and the fuel pumps positioned to “OFF” at the first indication of the fuel pump low pressure [1].

Defueling the main tanks with passengers on board is prohibited if the main tank fuel pumps are powered [2].

Defueling the center tank with passengers on board is prohibited if the center tank fuel pumps are powered and the auto-shutoff system is inhibited [2].

[1] Prior to transferring fuel or defueling, conduct a lamp test of the respective fuel pump low pressure lights.

[2] Fuel may be transferred from tank to tank or the aircraft may be defueled with passengers on board, provided fuel quantity in the tank from which fuel is being taken is maintained at or above 2,000 pounds (907 kilograms).”

AFM Revisions for Airplanes With Boeing Auxiliary Fuel Tanks

(k) For airplanes with Boeing auxiliary fuel tanks: Concurrently with accomplishing the actions required by paragraph (g) of this AD, do the actions specified in paragraphs (k)(1) and (k)(2) of this AD.

(1) Revise Section 1 of the Limitations section of the applicable Boeing 737 AFM to include the following statements. This may be done by inserting a copy of this AD into the AFM.

“CENTER WING (AND BOEING AUXILIARY) TANK FUEL PUMPS

Intentional dry running of a center wing or auxiliary tank fuel pump (low pressure light illuminated) is prohibited.”

Note 4: When a statement identical to that in paragraph (k)(1) of this AD has been included in the general revisions of the applicable Boeing 737 AFM, the general revisions may be inserted into the AFM, and the copy of this AD may be removed from the AFM.

(2) Revise Section 3 of the Normal Procedures section of the applicable Boeing 737 AFM to include the following statements. This may be done by inserting a copy of this AD into the AFM. Alternative statements that meet the intent of the following requirements may be used if approved by an appropriate FAA Principal Operations Inspector.

“CENTER WING (AND BOEING AUXILIARY) TANK FUEL PUMPS

Center wing or auxiliary tank fuel pumps must not be “ON” unless personnel are available in the flight deck to monitor low pressure lights.

For ground operation, center wing (or auxiliary) tank fuel pump switches must not be positioned “ON” unless the center wing (or auxiliary) tank fuel quantity exceeds 1,000 pounds (453 kilograms), except when defueling or transferring fuel. Upon positioning the center wing (or auxiliary) tank fuel pump switches “ON,” verify momentary illumination of each center wing (or auxiliary) tank fuel pump low pressure light.

For ground and flight operations, the corresponding center wing (or auxiliary) tank fuel pump switch must be positioned “OFF” when a center wing (or auxiliary) tank fuel pump low pressure light illuminates [1]. Both center wing (or auxiliary) tank fuel pump switches must be positioned “OFF” when the first center wing (or auxiliary) tank fuel pump low pressure light illuminates if the center wing (or auxiliary) tank is empty.

[1] When established in a level flight attitude, both center wing (or auxiliary) tank pump switches should be positioned “ON” again if the center wing (or auxiliary) tank contains usable fuel.

DEFUELING AND FUEL TRANSFER

When transferring fuel or defueling center wing, auxiliary or main tanks, the fuel pump low pressure lights must be monitored and the fuel pumps positioned to “OFF” at the first indication of the fuel pump low pressure [1].

Defueling the main tanks with passengers on board is prohibited if the main tank fuel pumps are powered [2].

Defueling the center wing (or auxiliary) tank with passengers on board is prohibited if the center wing (or auxiliary) tank fuel pumps are powered and the auto-shutoff system is inhibited [2].

[1] Prior to transferring fuel or defueling, conduct a lamp test of the respective fuel pump low pressure lights.

[2] Fuel may be transferred from tank to tank or the aircraft may be defueled with passengers on board, provided fuel quantity in the tank from which fuel is being taken is maintained at or above 2,000 pounds (907 kilograms).”

Airworthiness Limitations (AWLs) Revision for Automatic Shutoff System

(l) Concurrently with accomplishing the actions required by paragraph (g) of this AD, or within 30 days after the effective date of this AD, whichever occurs later: Revise the maintenance program by incorporating the AWLs specified in paragraphs (l)(1), (l)(2), (l)(3), and (l)(4) of this AD, as applicable. The initial compliance time for the actions specified in the applicable AWLs is within 1 year after accomplishing the installation required by paragraph (g) of this AD, or within 1 year after the effective date of this AD, whichever occurs later.

(1) For Model 737-100, -200, and -200C series airplanes without Boeing auxiliary fuel tanks installed: AWL No. 28-AWL-21 of Section C, “Fuel Systems Airworthiness Limitations,” of Section 9 of the Boeing 737-100/200/200C/300/400/500 Airworthiness Limitations (AWLs) and Certification Maintenance Requirements (CMRs), Document D6-38278-CMR, Revision July 2011.

(2) For Model 737-100, -200, and -200C series airplanes with Boeing auxiliary fuel tanks installed: AWL No. 28-AWL-21 and AWL No. 28-AWL-22 of Section C, “Fuel Systems Airworthiness Limitations,” of Section 9 of the Boeing 737-100/200/200C/300/400/500 Airworthiness Limitations (AWLs) and Certification Maintenance Requirements (CMRs), Document D6-38278-CMR, Revision July 2011. (3) For Model 737-300, -400, and -500 series airplanes without Boeing auxiliary fuel tanks installed: AWL No. 28-AWL-20 of Section C, “Fuel Systems Airworthiness Limitations,” of Section 9 of the Boeing 737-100/200/200C/300/400/500 Airworthiness Limitations (AWLs) and Certification Maintenance Requirements (CMRs), Document D6-38278-CMR, Revision July 2011.

(4) For Model 737-300, -400, and -500 series airplanes with Boeing auxiliary fuel tanks installed: AWL No. 28-AWL-20 and AWL No. 28-AWL-21 of Section C, “Fuel Systems Airworthiness Limitations,” of Section 9 of the Boeing 737-100/200/200C/300/400/500 Airworthiness Limitations (AWLs) and Certification Maintenance Requirements (CMRs), Document D6-38278-CMR, Revision July 2011.

Installation of `Un-Commanded ON' Protection System

(m) Within 60 months after the effective date of this AD, do the actions required by paragraph (m)(1) or (m)(2) of this AD, as applicable.

(1) For airplanes without airstairs in Groups 2 through 8, as identified in Boeing Alert Service Bulletin 737-28A1227, Revision 1, dated July 18, 2011: Install the `un-commanded ON' protection system for the center and auxiliary tank fuel boost pumps, as applicable, in accordance with the Accomplishment Instructions of Boeing Alert Service Bulletin 737-28A1227, Revision 1, dated July 18, 2011.

(2) For airplanes in Group 1, as identified in Boeing Alert Service Bulletin 737-28A1227, Revision 1, dated July 18, 2011: Install the `un-commanded ON' protection system for the center and auxiliary tank fuel boost pumps, as applicable, in accordance with a method approved by the Manager, Seattle ACO. For an installation method to be approved by the Manager, Seattle ACO, as required by this paragraph, the manager's approval letter must specifically refer to this AD.

AWLs Revision for ‘Un-Commanded ON’ Protection System

(n) Concurrently with accomplishing the actions required by paragraph (m) of this AD, or within 30 days after the effective date of this AD, whichever occurs later: Revise the maintenance program by incorporating the AWLs specified in paragraphs (n)(1), (n)(2), (n)(3), and (n)(4) of this AD, as applicable. The initial compliance time for the actions specified in applicable AWLs is within 1 year after accomplishing the installation required by paragraph (m) of this AD, or within 1 year after the effective date of this AD, whichever occurs later.

(1) For Model 737-100, -200, and -200C series airplanes without Boeing auxiliary fuel tanks: AWL No. 28-AWL-24 of Section C, “Fuel Systems Airworthiness Limitations,” of Section 9 of the Boeing 737-100/200/200C/300/400/500 Airworthiness Limitations (AWLs) and Certification Maintenance Requirements (CMRs), Document D6-38278-CMR, Revision July 2011.

(2) For Model 737-100, -200, and -200C series airplanes with Boeing auxiliary fuel tanks: AWL No. 28-AWL-24 and AWL No. 28-AWL-25 of Section C, “Fuel Systems Airworthiness Limitations,” of Section 9 of the Boeing 737-100/200/200C/300/400/500 Airworthiness Limitations (AWLs) and Certification Maintenance Requirements (CMRs), Document D6-38278-CMR, Revision July 2011.

(3) For Model 737-300, -400, and -500 series airplanes without Boeing auxiliary fuel tanks: AWL No. 28-AWL-23 of Section C, “Fuel Systems Airworthiness Limitations,” of Section 9 of the Boeing 737-100/200/200C/300/400/500 Airworthiness Limitations (AWLs) and Certification Maintenance Requirements (CMRs), Document D6-38278-CMR, Revision July 2011.

(4) For Model 737-300, -400, and -500 series airplanes with Boeing auxiliary fuel tanks: AWL No. 28-AWL-23 and AWL No. 28-AWL-24 of Section C, “Fuel Systems Airworthiness Limitations,” of Section 9 of the Boeing 737-100/200/200C/300/400/500 Airworthiness Limitations (AWLs) and Certification Maintenance Requirements (CMRs), Document D6-38278-CMR, Revision July 2011.

No Alternative Inspections or Inspection Intervals

(o) After accomplishing the applicable actions specified in paragraphs (l) and (n) of this AD, no alternative inspections or inspection intervals may be used unless the inspections or inspection intervals are approved as an alternative method of compliance (AMOC) in accordance with the procedures specified in paragraph (t) of this AD.

Credit for Actions Accomplished in Accordance With Previous Service Information

(p) Replacement of the P5-2 fuel system module assembly done before the effective date of this AD in accordance with Boeing Alert Service Bulletin 737-28A1210, Original Issue, dated August 2, 2010, is acceptable for compliance with the requirements of paragraph (h) of this AD.

(q) Actions accomplished before the effective date of this AD in accordance with the Boeing 737-100/200/200C/300/400/500 Airworthiness Limitations (AWLs) and Certification Maintenance Requirements (CMRs), D6-38278-CMR, Revision May 2009; or Revision August 2010; are acceptable for compliance with the corresponding requirements of paragraphs (l) and (n) of this AD.

Method of Compliance for Paragraph (l) of This AD

(r) Incorporating AWLs No. 28-AWL-21 and No. 28-AWL-22 for Model 737-100, -200, and -200C series airplanes; and AWLs No. 28-AWL-20 and No. 28-AWL-21 for Model 737-300, -400, and -500 series airplanes; in accordance with paragraphs (g)(1) and (g)(2) of AD 2008-10-09 R1 (74 FR 69264, December 31, 2009), is acceptable for compliance with the corresponding AWL incorporation required by paragraph (l) of this AD.

Method of Compliance for Paragraph (a) of AD 2001-08-24

(s) Accomplishing the actions required by paragraphs (g), (h), (i), and (l) of this AD, and paragraph (j) or (k) of this AD, as applicable, is an acceptable method of compliance with the requirements of paragraph (a) of AD 2001-08-24, Amendment 39-12201 (66 FR 20733, April 25, 2001).

Alternative Methods of Compliance (AMOCs)

(t)(1) The Manager, Seattle ACO, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(u) For more information about this AD, contact Tak Kobayashi, Aerospace Engineer, Propulsion Branch, ANM-140S, FAA, Seattle Aircraft Certification Office, 1601 Lind Avenue, SW., Renton, Washington 98057-3356; telephone: 425-917-6499; fax: 425-917-6590; e-mail: Takahisa.Kobayashi@faa.gov.

(v) For service information identified in this AD, contact Boeing Commercial Airplanes, Attention: Data & Services Management, P.O. Box 3707, MC 2H-65, Seattle, Washington 98124-2207; telephone: 206-544-5000, extension 1; fax: 206-766-5680; e-mail me.boecom@boeing.com; Internet https://www.myboeingfleet.com. You may review copies of the referenced service information at the FAA, Transport Airplane Directorate, the FAA, 1601 Lind Avenue, SW., Renton, Washington. For information on the availability of this material at the FAA, call 425-227-1221.

Issued in Renton, Washington, on October 3, 2011.
Ali Bahrami,
Manager, Transport Airplane Directorate, Aircraft Certification Service.

[FR Doc. 2011-26242 Filed 10-11-11; 8:45 am]

BILLING CODE 4910-13-P